DEPARTMENT OF TRANSPORTATION

Surface Transportation Board

[Docket No. FD 35524]

Canexus Chemicals Canada L.P. v. BNSF Railway Company

AGENCY: Surface Transportation Board, DOT.

ACTION: Notice of Oral Argument.

SUMMARY: In a decision served on June 8, 2011, the Board announced that it has tentatively scheduled an oral argument in this complaint proceeding.

Dates/Location: The oral argument is tentatively scheduled to be held Thursday, June 23, 2011, at 2 p.m., or at a later time that afternoon designated by the Board, in the hearing room at the Board's headquarters located at 395 E Street, SW., Washington, DC.

FOR FURTHER INFORMATION, CONTACT: Joseph Dettmar, (202) 245-0395. Assistance for the hearing impaired is available through the Federal Information Relay Service (FIRS) at: (800) 877-8339.

SUPPLEMENTARY INFORMATION: Canexus Chemicals Canada L.P. (Canexus) has filed a complaint with a request for expedited consideration. The complaint asks the Board to issue an order compelling BNSF Railway Company (BNSF) to establish common carrier rates and service terms effective July 1, 2011, between North Vancouver, B.C., and Kansas City, Mo., and between Marshall, Wash., and Kansas City, Mo.

Currently, BNSF is hauling Canexus shipments of chlorine from North Vancouver and Marshall to Kansas City in joint line service under temporary rates that terminate on June 30, 2011. According to the complaint, BNSF interchanges with Union Pacific Railroad Company (UP) in Kansas City and the shipments are hauled by UP to their final destinations in Illinois, Texas, and Arkansas. Canexus states that BNSF will terminate the interline service with UP through Kansas City after the temporary rates expire. Instead, BNSF has offered to interchange with UP at Spokane, Wash. (for movements originating from Marshall), and Portland, Or. (for movements originating from North Vancouver).

In the June 8, 2011 decision, the Board directed BNSF by June 15, 2011, to submit its argument as to whether BNSF has a legal obligation to provide the specific service to Kansas City that Canexus has requested and to establish an appropriate rate. The Board noted that UP has an interest in this matter as a carrier involved in these movements. Accordingly, the Board also directed UP by June 15, 2011, to submit a pleading addressing its legal obligation, if any, to interchange with BNSF at Spokane and Portland. Lastly, in the decision, the Board advised Canexus, BNSF, and UP that the Board may, following the receipt of the pleadings, convene an oral hearing to receive testimony from Canexus and the two railroads during the afternoon of June 23, 2011, at the Board's headquarters. If the Board determines that a hearing is necessary, it will issue a subsequent notice setting the time no later than June 16, 2011.

This action will not significantly affect either the human environment or the conservation of energy resources.

Decided: June 10, 2011.
By the Board.
Rachel D. Campbell,
Director, Office of Proceedings.
Jeffrey Herzig,
Clearance Clerk.

[FR Doc. 2011-14844 Filed 6-14-11; 8:45 am]

BILLING CODE 4915-01-P